DEPARTMENT OF COMMERCE

National Oceanic and Atmospheric Administration

[I.D. 080400E]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Reef Fish Stock Assessment Panel (RFSAP).

DATES: This meeting will begin at 9:00 a.m. on Monday, August 28, and conclude by 3:00 p.m. on Friday, September 1, 2000.

ADDRESSES: The meeting will be held at NMFS Southeast Fisheries Science Center, 75 Virginia Beach Drive, Miami, FL.

FOR FURTHER INFORMATION CONTACT: Steven Atran, Population Dynamics Statistician, Gulf of Mexico Fishery Management Council, 3018 U.S. Highway 301 North, Suite 1000, Tampa, FL 33619; telephone: 813-228-2815.

SUPPLEMENTARY INFORMATION: The RFSAP will convene to review the following information provided by NMFS:

1. 2000 Greater amberjack stock assessment

2. 2000 Update to the 1998 vermilion snapper stock assessment

3. 1999 Red grouper stock assessment with corrected tables

4. Draft red snapper restoration scenario

5. Microsoft Excel spreadsheet for calculating biological targets and thresholds for groupers and tilefish

Based on its review of the greater amberjack and red grouper stock assessments, and the vermilion snapper assessment update, the RFSAP may recommend a range of allowable biological catch (ABC) for 2001 for each stock, and may recommend management measures to achieve the ABC. In the NMFS October 1999 Report to Congress on the Status of Fisheries of the United States, the greater amberjack stock was classified as not overfished, based on the previous stock assessment in 1996. However, there were concerns that the sampling program had excluded older and larger fish, making the results of that assessment questionable. The red grouper stock was classified as status unknown due to problems discovered with the age and growth data used in the 1993 assessment. A new assessment in 1999, initially reviewed by the RFSAP in the Fall of 1999, indicated that the red grouper stock was overfished. However, the Council's Standing and Special Reef Fish Scientific and Statistical Committee (SSC) had a number of concerns about the data and methods used by NMFS. The NMFS response to the SSC concerns will be part of the RFSAP's reevaluation of the 1999 red grouper assessment. The vermilion snapper stock was classified as not overfished based on a 1998 assessment, but some model scenarios from the assessment suggested that the stock was being fished at a rate that could result in it becoming overfished. It was therefore classified by NMFS as approaching an overfished condition.

The RFSAP will also review a draft red snapper restoration scenario proposed by NMFS, which would allow for a transition from a constant annual catch strategy to a constant fishing mortality rate strategy, and would provide for reevaluation of the stock at five-year intervals. The RFSAP will also review a method developed by NMFS, using a Microsoft Excel spreadsheet, for determining management targets and thresholds for groupers and tilefish based on the technical guidance recommended by NMFS for compliance with the Sustainable Fisheries Act of 1996. The resulting RFSAP recommendations will be presented to the Council's Socioeconomic Panel, Reef Fish Advisory Panel, and SSC, and to the Council at its November 13-16, 2000 meeting in Biloxi, MS.

The RFSAP is composed of biologists who are trained in the specialized field of population dynamics. They advise the Council on the status of stocks and, when necessary, recommend a level of ABC needed to prevent overfishing or to effect a recovery of an overfished stock. They may also recommend catch restrictions needed to attain management goals.

Although other non-emergency issues not on the agendas may come before the RFSAP for discussion, in accordance with the Magnuson-Stevens Fishery Conservation and Management Act, those issues may not be the subject of formal action during these meetings. Actions of the RFSAP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the Council (see ADDRESSES) by August 21, 2000.

Dated: August 7, 2000.
Richard W. Surdi,
Acting Director, Office of Sustainable Fisheries, National Marine Fisheries Service.

[FR Doc. 00-20467 Filed 8-11-00; 8:45 am]

BILLING CODE 3510-22-F